DEPARTMENT OF ENERGY

Federal Energy Regulatory Commission

[Docket No. ER02-1578-000, et al.]

Public Service Company of New Mexico, et al.; Electric Rate and Corporate Regulation Filings

April 23, 2002

The following filings have been made with the Commission. The filings are listed in ascending order within each docket classification.

1. Public Service Company of New Mexico

[Docket No. ER02-1578-000]

Take notice that on April 17, 2002, Public Service Company of New Mexico (PNM) submitted for filing an executed service agreement, dated December 28, 2001, for firm point-to-point transmission service and certain ancillary services, between PNM Transmission Development and Contracts (Transmission Provider) and PNM International Business Development (Transmission Customer), under the terms of PNM's Open Access Transmission Tariff. The agreement is for 28 MW of reserved transmission capacity (and certain ancillary services) from the San Juan Generating Station 345kV Switchyard to the Luna 345kV Switching Station and represents the Transmission Customer's exercise of its Right of First Refusal to extend service under a predecessor (now expired) agreement for one year (through calendar year 2002). PNM requests January 1, 2002, as the effective date for each agreement. PNM's filing is available for public inspection at its offices in Albuquerque, New Mexico.

Copies of the filing have been sent to PNM International Business Development, PNM Transmission Development and Contracts, the New Mexico Public Regulation Commission and the New Mexico Attorney General.

Comment Date: May 8, 2002.

2. Public Service Company of New Mexico

[Docket No. ER02-1579-000]

Take notice that on April 17, 2002, Public Service Company of New Mexico (PNM) submitted for filing two executed service agreements for firm point-to-point transmission service with Texas-New Mexico Power Company (TNMP), under the terms of PNM's Open Access Transmission Tariff. The agreements are for 6 MW and 15 MW (respectively) of reserved transmission capacity from the Four Corners 345kV Switchyard to the Hidalgo 345kV Switching Station and represent TNMP's exercise of Right of First Refusal to continue service under two predecessor (now expired) agreements through calendar year 2002.

PNM requests January 1, 2002, as the effective date for the agreements. PNM's filing is available for public inspection at its offices in Albuquerque, New Mexico. Copies of the filing have been sent to TNMP, the New Mexico Public Regulation Commission and the New Mexico Attorney General.

Comment Date: May 8, 2002.

3. PJM Interconnection, L.L.C.

[Docket No. ER02-1580-000]

Take notice that on April 17, 2002, PJM Interconnection, L.L.C. (PJM), filed with the Federal Energy Regulatory Commission (Commission) amendments to the PJM Open Access Transmission Tariff and the Amended and Restated PJM Operating Agreement to allocate more equitably charges and credits relating to PJM's purchase or sale of emergency energy

Copies of this filing were served upon all PJM members and each state electric utility regulatory commission in the PJM region. PJM requests waiver of the Commission's notice requirements to permit an effective date of June 1, 2002 for the amendments.

Comment Date: May 8, 2002.

4. Idaho Power Company

[Docket No. ER02-1581-000]

Take notice that on April 17, 2002, Idaho Power Company filed a Service Agreement for Firm Point-to-Point Transmission Service between Idaho Power Company and Dynegy Power Marketing, Inc., under its open access transmission tariff in the above-captioned proceeding.

Comment Date: May 8, 2002.

5. Idaho Power Company

[Docket No. ER02-1583-000]

Take notice that on April 17, 2002, Idaho Power Company filed a Service Agreement for Non-Firm Point-to-Point Transmission Service between Idaho Power Company and Dynegy Power Marketing, Inc., under its open access transmission tariff in the above-captioned proceeding.

Comment Date: May 8, 2002.

6. Cinergy Services, Inc.

[Docket No. ER02-1584-000]

Take notice that on April 18, 2002, Cinergy Services, Inc. (Cinergy) on behalf of the Cincinnati Gas and Electric Company tendered for filing a Wholesale Market-Based Service Agreement under its Wholesale Market-Based Power Sales Standard Tariff, No. 9 -MB (the Tariff) entered into with Dynegy Power Marketing, Inc.

Cinergy and Dynegy Power Marketing, Inc. are requesting an effective date of April 1, 2002.

Comment Date: May 9, 2002.

7. Celerity Energy of Colorado, LLC

[Docket No. ER02-1585-000]

Take notice that on April 18, Celerity Energy of Colorado, LLC (Celerity) petitioned the Federal Energy Regulatory Commission (Commission) for acceptance of Celerity Rate Schedule FERC No. 1; the granting of certain blanket approvals, including the authority to sell electricity at market-based rates; and the waiver of certain Commission regulations.

Celerity intends to engage in wholesale electric power and energy purchases and sales as a marketer. Celerity is 85 percent owned by Caterpillar Power Systems, Inc., which produces electric power generation equipment, and 15 percent owned by Celerity Energy, an Oregon LLC, which engages in the business of distributed generation products and services.

Comment Date: May 9, 2002.

8. Cinergy Services, Inc.

[Docket No. ER02-1586-000]

Take notice that on April 18, 2002, Cinergy Services, Inc. (Cinergy) and Federal Energy Sales, Inc. are requesting a cancellation of Service Agreement No.108, under Cinergy Operating Companies, FERC Electric Cost-Based Power Sales Tariff, FERC Electric Tariff Original Volume No. 6.

Cinergy requests an effective date of April 19, 2002.

Comment Date: May 9, 2002.

9. Cinergy Services, Inc.

[Docket No. ER02-1587-000]

Take notice that on April 18, 2002, Cinergy Services, Inc., (Cinergy) and Federal Energy sales, Inc., are requesting a cancellation of Service Agreement No. 108 under Cinergy operating Companies, FERC Electric Market-based Power Sales tariff, FERC Electric tariff original Volume No. 7.

Cinergy requests an effective date of April 19, 2002.

Comment Date: May 9, 2002.

10. Duke Electric Transmission

[Docket No. ER02-1588-000]

Take notice that on April 18, 2002, Duke Electric Transmission (Duke), a division of Duke Energy Corporation, tendered for filing a Service Agreement with Duke Power, for Firm Transmission Service under Duke's Open Access Transmission Tariff.

Duke requests that the proposed Service Agreement be permitted to become effective on May 1, 2002. Duke states that this filing is in accordance with Part 35 of the Commission's Regulations, 18 CFR 35, and that a copy has been served on the North Carolina Utilities Commission.

Comment Date: May 9, 2002.

11. Michigan Electric Transmission Company

[Docket No. ER02-1589-000]

Take notice that on April 18, 2002, Michigan Electric Transmission Company (Michigan Transco) tendered for filing an executed revised Service Agreement for Network Transmission Service with Wolverine Power Marketing Cooperative (Customer) pursuant to the Joint Open Access Transmission Service Tariff originally filed on February 22, 2001 by Michigan Transco and International Transmission Company (ITC).

Michigan Transco is requesting an effective date of April 1, 2001. Customer is taking service under the Service Agreement in connection with Consumers Energy Company's (Consumers) Electric Customer Choice program.

Copies of the filed agreement were served upon the Michigan Public Service Commission, ITC, and the Customer.

Comment Date: May 9, 2002.

12. Michigan Electric Transmission Company

[Docket No. ER02-1590-000]

Take notice that on April 18, 2002, Michigan Electric Transmission Company (Michigan Transco) tendered for filing an executed revised Service Agreement for Network and Firm and Non-Firm Point to Point Transmission Service with Quest Energy, L.L.C. (Customer) pursuant to the Joint Open Access Transmission Service Tariff filed on February 22, 2002 by Michigan Transco and International Transmission Company (ITC). Michigan Transco is requesting an effective date of April 1, 2002. Customer is taking service under the Service Agreement in connection with Consumers Energy Company's (Consumers) Electric Customer Choice program.

Copies of the filed agreement were served upon the Michigan Public Service Commission, ITC, and the Customer.

Comment Date: May 9, 2002.

13. Wisconsin Electric Power Company

[Docket No. ER02-1591-000]

Take notice that on April 19, 2002, Wisconsin Electric Power Company (Wisconsin Electric) tendered for filing a fully executed Dynamic Interconnection Operations Coordination Agreement (Agreement) between Wisconsin Electric and the Board of Light and Power City of Marquette.

Wisconsin Electric respectfully requests an effective date of October 30, 2001.

Comment Date: May 10, 2002.

14. Southern Company Services, Inc.

[Docket No. ER02-1592-000]

Take notice that on April 19, 2002, Southern Company Services, Inc. (SCS), acting on behalf of Alabama Power Company, Georgia Power Company, Gulf Power Company, Mississippi Power Company, and Savannah Electric and Power Company (collectively Southern Companies), filed four transmission service agreements under the Open Access Transmission Tariff of Southern Companies (FERC Electric Tariff, Fourth Revised Volume No. 5) (Tariff). Specifically, these agreements are as follows: (1) One firm point-to-point transmission service agreement executed by SCS, as agent for Southern Companies, and UBS AG, London Branch (Service Agreement No. 448); (2) One non-firm point-to-point transmission service agreement executed by SCS, as agent for Southern Companies, and UBS AG, London Branch (Service Agreement No. 449); (3) One firm point-to-point transmission service agreement executed by SCS, as agent for Southern Companies, and Dynegy Power Marketing, Inc. to reflect the continuation of service under an agreement with its predecessor company, Electric Clearinghouse, Inc. (First Revised Service Agreement No. 184); and (4) One non-firm point-to-point transmission service agreement executed by SCS, as agent for Southern Companies, and Dynegy Power Marketing, Inc. to reflect the continuation of service under an agreement with its predecessor company, Electric Clearinghouse, Inc. (First Revised Service Agreement No. 5).

Comment Date: May 10, 2002.

15. Southern Indiana Gas & Electric Company

[Docket No. ER02-1593-000]

Take notice that on April 19, 2002, Southern Indiana Gas & Electric Company (SIGECO) and Alcoa Power Generating Inc. (APGI) tendered for filing pursuant to the provisions of Section 205 of the Federal Power Act and the Commission's Regulations, an extension of SIGECO's Rate Schedule FPC No. 29, which is APGI's Rate Schedule FPC No. 2 and is the two Parties' Electric Power Agreement.

SIGECO and APGI ask that the extension be made effective as of May 1, 2002. Copies of the filing were served upon APGI and the Indiana Utility Regulatory Commission.

Comment Date: May 10, 2002.

16. Wisconsin Electric Power Company

[Docket No. ER02-1594-000]

Take notice that on April 19, 2002, Wisconsin Electric Power Company (Wisconsin Electric) tendered for filing a fully executed Facilities Agreement (Agreement) between Wisconsin Electric and the City of Oconomowoc, Wisconsin. Wisconsin Electric respectfully requests an effective date of March 19, 2002.

Comment Date: May 10, 2002.

17. TME Energy Services

[Docket No. ER02-1595-000]

Take notice that on April 19, 2002, TME Energy Services tendered for filing a Petition for Blanket Authorizations, Certain Waivers, and Order Approving Rate Schedule Governing-Market Based Sales of Energy and Capacity.

Comment Date: May 10, 2002.

18. The Detroit Edison Company

[Docket No. ER02-1596-000]

Take notice that on April 19, 2002, The Detroit Edison Company (Detroit Edison) tendered for filing a Service Agreement for wholesale power sales transactions (the Service Agreements) under Detroit Edison's Wholesale Power Sales Tariff (WPS-2), FERC Electric Tariff No. 3 (the WPS-2 Tariff) between Detroit Edison and TXU Energy Trading Company, LP.

Comment Date: May 10, 2002.

19. Deepwater Power, LLC

[Docket No. ER02-1597-000]

Take notice that on April 19, 2002, Deepwater Power LLC (Deepwater) filed with the Federal Energy Regulatory Commission (Commission) a notice of cancellation of FERC Electric Tariff, Original Volume No. 1.

Notice of the proposed cancellation has not been served upon any party because such cancellation affects no purchasers under Deepwater's FERC Electric Tariff, Original Volume 1.

Comment Date: May 10, 2002.

20. B.L. England Power, LLC

[Docket No. ER02-1598-000]

Take notice that on April 19, 2002, B.L. England Power LLC (B.L. England) filed with the Federal Energy Regulatory Commission (Commission) a notice of cancellation of FERC Electric Tariff, Original Volume No. 1.

Notice of the proposed cancellation has not been served upon any party because such cancellation affects no purchasers under B.L. England's FERC Electric Tariff, Original Volume No. 1.

Comment Date: May 10, 2002.

21. DTE East China, LLC

[Docket No. ER02-1599-000]

Take notice that on April 19, 2002, DTE East China, LLC (DTE East China) submitted for filing, pursuant to Section 205 of the Federal Power Act, and Part 35 of the Federal Energy Regulatory Commission's (Commission) regulations, a Petition for authorization to make sales of electric capacity and energy at negotiated rates subject to a cost-based ceiling and for certain waivers of the Commission's regulations.

Comment Date: May 10, 2002.

22. Wisconsin Electric Power Company

[Docket No. OA01-8-002]

Take notice that on April 16, 2002, Wisconsin Electric Power Company (WEPCO) tendered for filing with the Federal Energy Regulatory Commission (Commission) its compliance filing pursuant to the Commission's March 27, 2002 order, FERC ¶ 61,329(2002).

Comment Date: May 16, 2002.

Standard Paragraphs

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-10662 Filed 4-30-02; 8:45 am]

BILLING CODE 6717-01-P